DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 USC 1531 et seq.).

Permit No. TE-021929

Applicant: The Native Plant Society, Sacramento Valley Chapter, Sacramento, California.

The applicant requests a permit to take (harass by survey, collect, and sacrifice) the Conservancy fairy shrimp (Branchinecta conservatio), longhorn fairy shrimp (Branchinecta longiantenna), and vernal pool tadpole shrimp (Lepidurus packardi) throughout each species range in California, in conjunction with surveys, population monitoring, and education for the purpose of enhancing their survival.

Permit No. TE-702631

Applicant: Assistant Regional Director-Ecological Services, Region 1, U.S. Fish and Wildlife Service, Portland, Oregon.

The permittee requests an amendment to remove and reduce to possession specimens of the following plant species: Sidalcea oregana var. calva (Wenatchee Mountains checker-mallow) and Fritillaria gentneri (Gentner's Fritillary) (=Mission-bells). Authorization is also requested to take the following species: Kauai cave wolf spider (Adelocosa anops), Kauai cave amphipod (Spelaeorchestia koloana), and the Santa Barbara County distinct population segment of the California tiger salamander (Ambystoma californiense). Collection and take activities will be conducted throughout the species range in conjunction with recovery efforts for the purpose of enhancing their propagation and survival.

Permit No. TE-018909

Applicant: Kelly Rios, Brea, California.

The permittee requests an amendment to take (survey by pursuit) the Quino checkerspot butterfly (Euphydryas editha quino) in conjunction with presence or absence surveys throughout its range for the purpose of enhancing its survival.

Permit No. TE-021544

Applicant: Salvatore Zimmitte, San Diego, California.

The applicant requests a permit to take (survey by pursuit) the Quino checkerspot butterfly (Euphydryas editha quino) in conjunction with presence or absence surveys throughout its range for the purpose of enhancing its survival.

Permit No. TE-00750

Applicant: Julie Simonsen, Newport Beach, California.

The permittee requests an amendment to take (survey by pursuit) the Quino checkerspot butterfly (Euphydryas editha quino), El Segundo blue butterfly (Euphilotes battoides allyni), and Delhi Sands flower loving fly (Rhaphiomidas terminatus abdominalis) in conjunction with presence or absence surveys throughout each species range for the purpose of enhancing their survival.

DATES: Written comments on these permit applications must be received on or before March 3, 2000.

ADDRESSES: Written data or comments should be submitted to the Chief—Endangered Species, Ecological Services, Fish and Wildlife Service, 911 N.E. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: January 26, 2000.
Thomas Dwyer,
Regional Director, Region 1, Portland, Oregon.

[FR Doc. 00-2221 Filed 2-1-00; 8:45 am]

BILLING CODE 4310-55-P